ENVIRONMENTAL PROTECTION AGENCY

40 CFR Part 52

[MD201-3117; FRL-8536-3]

Approval and Promulgation of Air Quality Implementation Plans; Maryland; Update to Materials Incorporated by Reference; Correction

AGENCY: Environmental Protection Agency (EPA).

ACTION: Final rule; notice of administrative change; correcting amendment.

SUMMARY: This document corrects an omission in the part 52 Identification of Plan table for Maryland which summarizes the applicable source-specific requirements which comprise the current EPA-approved Maryland State Implementation Plan (SIP).

DATES: Effective Date: This action is effective March 11, 2008.

ADDRESSES: SIP materials which are incorporated by reference into 40 CFR part 52 are available for inspection at the following locations: Air Protection Division, U.S. Environmental Protection Agency, Region III, 1650 Arch Street, Philadelphia, PA 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: On May 18, 2007 (72 FR 27957), EPA published an update of materials submitted by Maryland that are incorporated by reference (IBR) into the Maryland State implementation plan (SIP) as of March 15, 2007. The regulations and source-specific requirements affected by this update (summarized in the tables cited as 40 CFR 52.1070(c) and (d) respectively) had been previously submitted by the Maryland Department of the Environment (MDE) and approved by EPA. In the table cited as 40 CFR 52.1070(d) (EPA-approved source-specific requirements), we inadvertently omitted an entry describing the EPA-approved Amended Consent Order for the Potomac Electric Power Company (PEPCO)—Dickerson Plant (#49352). This action updates the IBR materials to correct the omission of the Amended Consent Order for the PEPCO—Dickerson Plant, corrects the erroneous omission of the source-specific entry for PEPCO-Dickerson from the table in 40 CFR 52.1070(d), and reprints the paragraph (d) table in its entirety. All SIP materials incorporated by reference in paragraph (d) are available for public inspection at the Air and Radiation Docket and Information Center located at EPA Headquarters in Washington, DC, the EPA Regional Office, and the National Archives and Records Administration.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because this rule is not substantive and imposes no regulatory requirements, but merely corrects a citation in a previous action. Thus, notice and public procedure are unnecessary. We find that this constitutes good cause under 5 U.S.C. 553(b)(B).

Statutory and Executive Order Reviews

Under Executive Order (E.O.) 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it approves a state rule implementing a Federal standard.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of March 11, 2008. EPA will submit a report containing this rule and other required information to the U.S. Senate, the U.S. House of Representatives, and the Comptroller General of the United States prior to publication of the rule in the Federal Register. This action to update the materials incorporated by reference and correct the table in 40 CFR 52.1070(d) for Maryland is not a “major rule” as defined by 5 U.S.C. 804(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 21, 2008.
Donald S. Welsh,
Regional Administrator, Region III.

40 CFR part 52 is amended as follows:

PART 52—[AMENDED]

1. The authority citation for part 52 continues to read as follows:

Authority: 42 U.S.C. 7401 et seq.

Subpart V—Maryland

2. Section 52.1070 is amended by revising paragraph (d) to read as follows:

§ 52.1070 Identification of plan.

* * * * *

(d) EPA approved state source-specific requirements.

Name of source | Permit number/type | State effective date | EPA approval date | Additional explanation
(PEPCO)—Chalk Point Units #1 and #2 | #49352 Amended Consent Order | 1/27/78 | 4/2/79; 44 FR 19192 | 52.1100(c)(22); FRN republished 5/3/79 (44 FR 25840).
Potomac Electric Power Company (PEPCO)—Dickerson | #49352 Amended Consent Order | 7/26/78 | 12/6/79; 44 FR 70141 | 52.1100(c)(25).
Beall Jr./Sr. High School | Consent Order | 1/30/79 | 3/18/80; 45 FR 17144 | 52.1100(c)(26).
Mt. Saint Mary's College | Consent Order | 3/8/79 | 3/18/80; 45 FR 17144 | 52.1100(c)(26).
Potomac Electric Power Company (PEPCO)—Chalk Point | Secretarial Order | 7/19/79 | 9/3/80; 45 FR 58340 | 52.1100(c)(34).
Maryland Slag Co | Consent Agreement (Order) | 10/31/80 | 9/8/81; 41 FR 44757 | 52.1100(c)(49).
Northeast Maryland Waste Disposal Authority | Secretarial Order | 11/20/81 | 7/7/82; 47 FR 29531 | 52.1100(c)(65) (Wheelabrator-Frye, Inc.).
Northeast Maryland Waste Disposal Authority and Wheelabrator-Frye, Inc. and the Mayor and City Council of Baltimore and BEDCO Development Corp | Secretarial Order | 2/25/83 | 8/24/83; 45 FR 55179 | 52.1100(c)(70) (Shutdown of landfill for offsets).
Westvaco Corp | Consent Order | 9/6/83; Rev. 1/26/84 | 12/20/84; 49 FR 49457 | 52.1100(c)(74).
Potomac Electric Power Company(PEPCO) | Administrative Consent Order | 9/13/99 | 12/15/00; 65 FR 78416 | 52.1100(c)(151).
Thomas Manufacturing Corp | Consent Decree | 2/15/01 | 11/15/01; 66 FR 57395 | 52.1100(c)(167).
Constellation Power Source Generation, Inc.-Brandon Shores Units #1 & 2; Gould Street Unit #3; H.A. Wagner Units #1, 2, 3 & 4; C.P. Crane Units #1 & 3; and Riverside Unit #4 | Consent Order and NOX RACT Averaging Plan Proposal | 4/25/01 | 2/27/02; 67 FR 8897 | 52.1100(c)(168).
Kaydon Ring and Seal, Inc | Consent Order | 3/5/04 | 8/31/04; 69 FR 53002 | (c)(190); SIP effective date is 11/1/04.
Perdue Farms, Inc | Consent Order | 2/1/05 | 1/11/07; 72 FR 1291 | 52.1070(d)(1).

* * * * *

[FR Doc. E8-4566 Filed 3-10-08; 8:45 am]

BILLING CODE 6560-50-P